DEPARTMENT OF HOUSING AND URBAN DEVELOPMENT

[Docket No. FR-6086-N-08]

RIN 2577-AD05

Economic Growth Regulatory Relief and Consumer Protection Act: Implementation of National Standards for the Physical Inspection of Real Estate (NSPIRE); Extension of NSPIRE Compliance Date for HCV Programs

AGENCY: Office of the Assistant Secretary for Public and Indian Housing, Department of Housing and Urban Development (HUD).

ACTION: Notice.

SUMMARY: This notice extends the compliance date for HUD's National Standards for the Physical Inspection of Real Estate (NSPIRE) final rule for Housing Choice Voucher (HCV) and Project Based Voucher (PBV) programs until October 1, 2024. HUD is taking this action to allow Public Housing Authorities (PHAs) additional time to implement HUD's NSPIRE standards.

DATES: Compliance Date: Jurisdictions, participants, and grantees subject to 24 CFR parts 882, 982, and 983 are not required to comply with the changes to these parts in the NSPIRE final rule until October 1, 2024.

FOR FURTHER INFORMATION CONTACT: Dana M. Kitchen, Real Estate Assessment Center, Office of Public and Indian Housing, Department of Housing and Urban Development, 550 12th Street SW, Suite 100, Washington, DC 20410-4000; telephone 202-708-1112 (this is not a toll-free number), NSPIREV_AlternateInspection@hud.gov. HUD welcomes and is prepared to receive calls from individuals who are deaf or hard of hearing, as well as individuals with speech or communication disabilities. To learn more about how to make an accessible telephone call, please visit: https://www.fcc.gov/consumers/guides/telecommunications-relay-service-trs.

SUPPLEMENTARY INFORMATION:

I. Background

PHAs subject to the HCV and PBV programs currently use the Housing Quality Standards (HQS) for inspections, which are defined at 24 CFR 982.401. The Economic Growth Regulatory Relief and Consumer Protection Act: Implementation of National Standards for Physical Inspection of Real Estate (NSPIRE) final rule (“NSPIRE final rule”) was published on May 11, 2023 (88 FR 30442). The NSPIRE final rule includes amendments to 24 CFR parts 982 and 983 effective October 1, 2023.

II. Basis for Delay of Compliance Date

HUD encourages any PHA that is ready to implement NSPIRE at their earliest convenience. However, HUD has determined that additional time is necessary for some PHAs to implement NSPIRE for HCV, PBV, and Moderate Rehabilitation (Mod Rehab) programs. This will provide PHAs with additional time to train staff, communicate with landlords and for HUD to provide additional technical resources needed for PHAs and agencies to transition to the NSPIRE standards.

III. Instructions

PHAs who wish to continue using HQS on or after October 1, 2023, must notify HUD of their intent to continue using HQS and the date on which they plan to transition to NSPIRE. This date may be no later than October 1, 2024. This notification must be sent via email to NSPIREV_AlternateInspection@hud.gov with a courtesy copy to their Field Office representative. The email's subject line must read “Notification of Extension of HQS, [PHA code]” and the body of the email should include the PHA name, PHA code, a statement that HQS will continue to be used, and what date the PHA tentatively plans to implement NSPIRE (which may be no later than October 1, 2024).

If a PHA implements NSPIRE after October 1, 2023, but before October 1, 2024, the PHA must notify HUD via email to NSPIREV_AlternateInspection@hud.gov with a courtesy copy to their Field Office representative. The email's subject line must read “Notification of Implementation of NSPIRE, [PHA code]” and the body of the email should include the PHA name, PHA code, a statement that the PHA will be transitioning to NSPIRE, and what date the PHA will implement NSPIRE (which may be no later than October 1, 2024).

IV. Conclusion

Accordingly, HUD revises the October 1, 2023, compliance date for the changes made to 24 CFR parts 882, 982, and 983 to October 1, 2024, at which time PHAs subject to these parts must comply with the NSPIRE final rule. Until October 1, 2024, PHAs subject to these parts may instead choose to comply with these parts as they existed prior to October 1, 2023.

Principal Deputy Assistant Secretary for Public and Indian Housing, Richard J. Monocchio, having reviewed and approved this document, is delegating the authority to electronically sign this document to submitter, Aaron Santa Anna, who is the Federal Register Liaison for HUD, for purposes of publication in the Federal Register.

Aaron Santa Anna,
Federal Register Liaison for the Department of Housing and Urban Development.

[FR Doc. 2023-21141 Filed 9-27-23; 8:45 am]

BILLING CODE 4210-67-P